DEPARTMENT OF THE INTERIOR

Fish and Wildlife Service

Issuance of Permit for Incidental Take of Threatened Species for the Elizabeth Cross Roads Property, Elbert County, CO

AGENCY: Fish and Wildlife Service, Interior.

ACTION: Notice of Issuance of Permit for Incidental Take of Endangered Species.

SUMMARY: On December 16, 2003, a notice was published in the Federal Register (Vol. 68 No. 241 FR 70028), that an Application had been filed with the U.S. Fish and Wildlife Service (Service) by the Elizabeth Cross Roads, LLC, for a permit to incidentally take, under section 10(a)(1)(B) of the Endangered Species Act of 1973 (16 U.S.C. 1539), as amended, Preble's meadow jumping mouse, Zapus hudsonius preblei, pursuant to the terms of the “Environmental Assessment/Habitat Conservation Plan for Issuance of an Endangered Species Section 10(a)(1)(B) Permit for the Incidental Take of the Preble's Meadow Jumping Mouse (Zapus hudsonius preblei) for the Elizabeth Cross Roads Property in Elbert County, Colorado.”

Notice is hereby given that on September 23, 2004, as authorized by the provisions of the Endangered Species Act, the Service issued a permit (TE-079424-0) to the above named party subject to certain conditions set forth therein. The permit was granted only after the Service determined that it was applied for in good faith, that granting the permit would not be to the disadvantage of the threatened species, and that it would be consistent with the purposes and policy set forth in the Endangered Species Act, as amended.

Additional information on this permit action may be requested by contacting the Colorado Field Office, 755 Parfet Street, Suite 361, Lakewood, Colorado 80215, telephone (303) 275-2370, between the hours of 7 a.m. and 4:30 p.m. weekdays.

Dated: September 24, 2004.
Elliott N. Sutta,
Acting Deputy Regional Director, Denver, Colorado.

[FR Doc. 04-25784 Filed 11-19-04; 8:45 am]

BILLING CODE 4310-55-P